UNITED STATES INSTITUTE OF PEACE

Notice of Meeting

Date/Time: Thursday, March 30, 2006. 9:15 a.m.-4 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 93-525.

Agenda: March 30, 2006 Board Meeting; Approval of Minutes of the One Hundred Twenty-First Meeting (November 17, 2005) of the Board of Directors; Chairman's Report; President's Report; Budget Update; Consideration of Fellowship Applications; Grant Review and Approval; Other General Issues.

Contact: Tessie Higgs, Executive Office, Telephone: (202) 429-3836.

Dated: March 15, 2006.
Patricia P. Thomson,
Executive Vice President, United States Institute of Peace.

[FR Doc. 06-2687 Filed 3-16-06; 11:23 am]

BILLING CODE 6820-AR-M